DEPARTMENT OF THE INTERIOR

[FA 108 2810 HT 001R]

Office of Wildland Fire Coordination; Call for Nominations for the Joint Fire Science Program Stakeholder Advisory Group

AGENCY: Office of Wildland Fire Coordination, Interior.

ACTION: Notice of Joint Fire Science Program Stakeholder Advisory Group call for nominations.

SUMMARY: The purpose of this notice is to solicit public nominations for two members to the Joint Fire Science Program Stakeholder Advisory Group.

DATES: Nominations should be submitted to the address listed below under ADDRESSES no later than November 28, 2001.

ADDRESSES: Send nominations to Dr. Bob Clark, Joint Fire Science Program, National Interagency Fire Center, 3833 S. Development Ave., Boise, ID 83705.

FOR FURTHER INFORMATION CONTACT: Tim Hartzell, Designated Federal Official; telephone (202) 606-3211; fax: (202) 606-3150; e-mail: Tim—Hartzell@blm.gov.

SUPPLEMENTARY INFORMATION: Recently, two members of the Joint Fire Science Program Stakeholder Advisory Group have resigned. We are seeking to fill vacancies left by these two committee members: one who represented an Indian Tribe, and one who represented a non-profit wildland management research group. In the interest of maintaining balance on the Joint Fire Science Program Stakeholder Advisory Group, we are specifically seeking to replace those two members with persons from the same types of groups. However, we will consider all nominations we receive from all types of stakeholders.

Additional information about the Joint Fire Science Program Stakeholder Advisory Group, including the charter that established it, may be found on the World Wide Web at http://www.nifc.gov/joint_fire_sci/SHAG/facaind.htm

Dated: October 12, 2001.
Tim Hartzell,
Director, Office of Wildland Fire Coordination.

[FR Doc. 01-27066 Filed 10-26-01; 8:45 am]

BILLING CODE 4310-DW-P